DEPARTMENT OF LABOR

Office of the Secretary

Combating Exploitive Child Labor Through Education in Mozambique; Correction

AGENCY: Bureau of International Labor Affairs, Department of Labor.

ACTION: Correction.

SUMMARY: In notice document 05-10619 beginning of page 30777 in the issue of Friday, May 27, 2005, make the following correction:

On page 30777, in the third column, third sentence of Section II “Award Information”, the language, “The duration of the project(s) funded by this solicitation is four (4) years”, is incorrect. This sentence should be changed to read, “The duration of the project(s) funded by this solicitation must be between 30 months and 48 months.”

Dated: June 10, 2005
Lisa Harvey,
Grant Officer.

[FR Doc. 05-11875 Filed 6-15-05; 8:45 am]

BILLING CODE 4510-28-M